DEPARTMENT OF HEALTH AND HUMAN SERVICES

Administration for Community Living

Agency Information Collection Activities: Proposed Collection; Public Comment Request; for the State Plan of Assistive Technology (OMB Control Number 0985-0048)

AGENCY: Administration for Community Living, HHS.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This collection of information extension solicits comments on the information collection requirements relating to the State Plan of Assistive Technology (OMB Control Number 0985-0048).

DATES: Comments on the collection of information must be submitted electronically by 11:59 p.m. (EDT) or postmarked by May 28, 2024.

ADDRESSES: Submit electronic comments on the collection of information to: Rob Groenendaal Robert.Groenendaal@acl.hhs.gov. Submit written comments on the collection of information to Administration for Community Living, 330 C Street SW, Washington, DC 20201, Attention: Rob Groenendaal Robert.Groenendaal@acl.hhs.gov.

FOR FURTHER INFORMATION CONTACT: Rob Groenendaal, Robert.Groenendaal@acl.hhs.gov, (202) 795-7356.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology. Section 4 of the 21st Century Assistive Technology Act (AT Act) provides grants to States and Territories to operate comprehensive statewide assistive technology programs (Statewide AT Programs) that increase access to and acquisition of AT devices and services for individuals with disabilities and older Americans. States and Territories are required to apply to ACL in order to receive funds under this grant program. Section 4(d) of the AT Act requires that this application contain:

(1) information identifying and describing the lead agency and implementing entity (if applicable) responsible for carrying out the Statewide AT Program and a description of how the implementing entity (if applicable) coordinates and collaborates with the State;

(2) a description of how public and private entities were involved in the development of the application and will be involved in implementation of the grant, including the resources to be committed by these entities;

(3) a description of how the Statewide AT Program will implement the activities required under the grant, which include State financing, device reutilization, device loans, device demonstrations, training, technical assistance, and public awareness. Statewide AT Programs must conduct these activities in coordination and collaboration with other appropriate entities;

(4) an explanation of how the grant funds will be allocated, used, and tracked;

(5) a set of assurances; and

(6) a description of the activities that will be supported with State funds.

Section 4 Requirements Necessitating Submission of the State Plan for AT and Annual Data Collection

Section 4 of the AT Act authorizes grants to public agencies in the 50 States and the District of Columbia, Puerto Rico, the Virgin Islands, Guam, American Samoa, and the Commonwealth of the Northern Marianas (States and outlying areas). With these funds, the 56 States and Territories operate “Statewide AT Programs” that conduct activities to increase access to, and acquisition of, assistive technology (AT) for individuals with disabilities and older Americans. These comprehensive activities are divided into two categories: “State-level Activities” and “State Leadership Activities.”

According to section 4 of the AT Act, as a condition of receiving a grant to support their Statewide AT Programs, the 56 States and Territories must provide to ACL: (1) applications and (2) annual progress reports on their activities.

Applications: The application required of States and Territories is a three-year State Plan for Assistive Technology (State Plan for AT or State Plan) (OMB No. 0985-0048). The content of the State Plan for AT is based on the requirements in section 4(d) of the AT Act. As a part of this State Plan, section 4(d)(3) of the AT Act requires that States and Territories conduct activities addressing the assistive technology needs of individuals with disabilities in education, employment, community living and information technology/telecommunications.

National aggregation of data related to the required State-level and State leadership activities is necessary for the Government Performance and Results Modernization Act of 2010 (GPRAMA) as well as an Annual Report to Congress. Therefore, this State Plan for AT instrument provides a way for all 56 grantees—50 U.S. States, DC, Puerto Rico, the U.S. Virgin Islands, Guam, American Samoa, and the Commonwealth of the Northern Mariana Islands to collect and report data on their performance in a consistent manner.

Annual Reports: In addition to submitting a State Plan for AT every three years, States and outlying areas are required to submit annual progress reports on their activities. The data required in that progress report is specified in section 4(f) of the AT Act.

Section 8 Requirements Necessitating Collection

Section 8(d) of the AT Act requires that ACL submit to Congress an annual report on the activities identified in the State Plan for AT and an analysis of the progress of the States and Territories in meeting their measurable goals. The State Plan for AT must include a compilation and summary of the activities conducted under section 4(f). In order to make this possible, States and Territories must provide their data uniformly. This State Plan for AT instrument was developed to ensure that all 56 States and Territories report data in a consistent manner in alignment with the requirements of section 4(f).

The proposed data collection tools may be found on the ACL website for review at: https://www.acl.gov/about-acl/public-input.

Estimated Program Burden: ACL estimates the burden of this collection of information as follows: Fifty-six grantees report to ACL using the web-based data collection system. A workgroup of grantees estimated that the average amount of time required to complete all responses to the data collection instrument is 73 hours annually. The burden estimates affect the reporting responsibilities of the Statewide AT Programs, and the directors were chosen to represent the diversity of the 56 programs based on regions of the country, sizes of the programs, types of agencies operating the programs, and whether the director is an individual with a disability. The estimated response burden includes time to review the instructions, gather existing information, and complete and review the data entries.

a. Number of respondents: 56.

b. Frequency of response: 1.

c. Total annual responses (a × b): 56.

d. Hours per response: 73.

e. Total burden hours (c × d): 4,088.

Dated: March 20, 2024.
Alison Barkoff,
Principal Deputy Administrator for the Administration for Community Living, performing the delegable duties of the Administrator and the Assistant Secretary for Aging.

[FR Doc. 2024-06366 Filed 3-25-24; 8:45 am]

BILLING CODE 4154-01-P